DEPARTMENT OF COMMERCE

International Trade Administration

[A-520-809]

Prestressed Concrete Wire Strand From the United Arab Emirates: Rescission of Antidumping Administrative Review; 2023-2024

AGENCY: Enforcement and Compliance, International Trade Administration, Department of Commerce.

SUMMARY: The U.S. Department of Commerce (Commerce) is rescinding the administrative review of the antidumping duty (AD) order on prestressed concrete wire strand (PC wire strand) from the United Arab Emirates (UAE), covering the period of review (POR) February 1, 2023, through January 31, 2024.

DATES: Applicable October 7, 2024.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On February 2, 2024, Commerce published in the Federal Register a notice of opportunity to request an administrative review of the AD order ¹ on PC wire strand from the UAE, covering the POR.² On February 27, 2024, Essen Steel Industry L.L.C. (Essen) timely requested that Commerce conduct an administrative review.³ On April 9, 2024, Commerce initiated an administrative review of the Order covering the POR.⁴ In a letter filed to the record at the outset of this proceeding, Essen acknowledged that it had no entries during the POR, but requested that Commerce exercise its discretion to modify the POR to capture a single sale intended for entry during the POR, but which entered the United States on February 8, 2024.⁵

¹ See Prestressed Concrete Steel Wire Strand from Argentina, Colombia, Egypt, the Netherlands, Saudi Arabia, Taiwan, the Republic of Turkey, and the United Arab Emirates: Antidumping Duty Orders, 86 FR 7703 (February 1, 2021) (Order).

² See Antidumping or Countervailing Duty Order, Finding, or Suspended Investigation; Opportunity To Request Administrative Review and Join Annual Inquiry Service List, 89 FR 7366 (February 2, 2024).

³ See Essen's Letter, “Request for administrative review of antidumping order,” dated February 27, 2024.

⁴ See Initiation of Antidumping and Countervailing Duty Administrative Reviews, 89 FR 24780 (April 9, 2024).

⁵ See Essen's Letter, “Notification and request for extension of POR by eight days,” dated March 25, 2024.

On April 18, 2024, Commerce released to the record confirmation from U.S. Customs and Border Protection (CBP) that there were no entries of subject merchandise during the POR in a memorandum which notified parties of its intent to rescind this review in the absence of any suspended entries during the POR from Essen.⁶ In the Intent to Rescind Memorandum, Commerce provided all interested parties an opportunity to comment on the intent to rescind the review. No party to the proceeding provided comments on Commerce's intent to rescind the review. Subsequent to issuance of the Intent to Rescind Memorandum, pursuant to Essen's request for review of the same entry identified on the record of this proceeding, Commerce initiated a separate new shipper review covering the above-referenced sale.⁷

⁶ See Memorandum, “Notice of Intent to Rescind Review,” dated May 30, 2024 (Intent to Rescind Memorandum).

⁷ See Prestressed Concrete Steel Wire Strand from the United Arab Emirates: Initiation of Antidumping Duty New Shipper Review, 89 FR 74887 (September 13, 2024).

Rescission of Review

Pursuant to 19 CFR 351.213(d)(3), it is Commerce's practice to rescind an administrative review of an AD order where it concludes that there were no suspended entries of subject merchandise during the POR.⁸ Normally, upon completion of an administrative review, the suspended entries are liquidated at the AD assessment rate for the review period.⁹ Therefore, for an administrative review to be conducted, there must be a reviewable, suspended entry that Commerce can instruct CBP to liquidate at the calculated AD assessment rate for the review period.¹⁰ As noted above, there were no suspended entries of subject merchandise from Essen during the POR. Accordingly, in the absence of suspended entries of subject merchandise during the POR, we are rescinding this administrative review for Essen in accordance with 19 CFR 351.213(d)(3).

⁸ See, e.g., Certain Carbon and Alloy Steel Cut-to Length Plate from the Federal Republic of Germany: Recission of Antidumping Administrative Review; 2020-2021, 88 FR 4157 (January 24, 2023).

⁹ See 19 CFR 351.212(b)(1).

¹⁰ See, e.g., Shanghai Sunbeauty Trading Co. v. United States, 380 F. Supp. 3d 1328, 1335-36 (CIT 2019), at 12 (referring to section 751(a) of the Tariff Act of 1930, as amended (the Act), the CIT held: “While the statute does not explicitly require that an entry be suspended as a prerequisite for establishing entitlement to a review, it does explicitly state the determined rate will be used as the liquidation rate for the reviewed entries. This result can only obtain if the liquidation of entries has been suspended. . . . ”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate From the Russian Federation: Notice of Rescission of Antidumping Duty Administrative Review, 77 FR 65532 (October 29, 2012) (noting that “for an administrative review to be conducted, there must be a reviewable, suspended entry to be liquidated at the newly calculated assessment rate”).

Assessment

Commerce will instruct CBP to assess antidumping duties on all appropriate entries. Because Commerce is rescinding this review in its entirety, the entries to which this administrative review pertained shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order (APO)

This notice serves as a final reminder to parties subject to an APO of their responsibility concerning the return or destruction of proprietary information disclosed under APO in accordance with 19 CFR 351.305, which continues to govern business proprietary information in this segment of the proceeding. Timely written notification of the return or destruction of the APO materials or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: October 2, 2024.
Scot Fullerton,
Acting Deputy Assistant Secretary for Antidumping and Countervailing Duty Operations.

[FR Doc. 2024-23149 Filed 10-4-24; 8:45 am]

BILLING CODE 3510-DS-P